DEPARTMENT OF HOMELAND SECURITY

Bureau of Customs and Border Protection

[T.D. 03-22]

Tuna Fish Tariff-Rate Quota for Calendar Year 2003

AGENCY: Bureau of Customs and Border Protection, Department of Homeland Security.

ACTION: Announcement of the tariff-rate quota for tuna fish for calendar year 2003.

SUMMARY: The tariff-rate quota applicable in each year to tuna fish classifiable in subheading 1604.14.22 of the Harmonized Tariff Schedule of the United States is based on tuna consumption in the United States during the preceding calendar year. This document sets forth the tariff-rate quota for calendar year 2003.

EFFECTIVE DATES: The 2003 tariff-rate quota is applicable to tuna fish entered, or withdrawn from warehouse, for consumption during the period January 1 through December 31, 2003.

FOR FURTHER INFORMATION CONTACT: Connie Chancey, Chief, Quota Branch, Textile Enforcement and Operations Division, Trade Compliance and Facilitation, Office of Field Operations, Bureau of Customs and Border Protection, Washington, DC 20229, (202) 927-5850.

SUPPLEMENTARY INFORMATION: It has now been determined that 18,777,508 kilograms of tuna fish in airtight containers may be entered for consumption or withdrawn from warehouse for consumption during calendar year 2003 at the rate of 6 percent ad valorem under subheading 1604.14.22, Harmonized Tariff Schedule of the United States (HTSUS). Any tuna fish otherwise described in subheading 1604.14.22, HTSUS, which is entered, or withdrawn from warehouse, for consumption during calendar year 2003 in excess of that quota will be classifiable under subheading 1604.14.30, HTSUS, and dutiable at the rate of 12.5 percent ad valorem.

Dated: April 28, 2003.
Robert C. Bonner,
Commissioner, Customs and Border Protection.

[FR Doc. 03-10730 Filed 4-30-03; 8:45 am]

BILLING CODE 4820-02-P